DEPARTMENT OF COMMERCE

International Trade Administration

[A-570-836]

Glycine from the People's Republic of China: Partial Rescission of Antidumping Duty Administrative Review

AGENCY: Import Administration, International Trade Administration, Department of Commerce.

SUMMARY: In response to a request from petitioner GEO Specialty Chemicals, Inc. (“GEO”), the Department of Commerce (“the Department”) initiated an administrative review of the antidumping duty order on glycine from the People's Republic of China (“PRC”). See Initiation of Antidumping and Countervailing Duty Administrative Reviews and Request for Revocation in Part, 73 FR 22337 (April 25, 2008). This administrative review covers the March 1, 2007, through February 29, 2008 period of review (“POR”). Due to the withdrawal of the request for the administrative review by GEO for 22 of the 24 companies for which it requested a review, we are now rescinding this review with respect to those 22 companies.

EFFECTIVE DATE: August 29, 2008.

FOR FURTHER INFORMATION CONTACT: Dena Crossland or Stephen Bailey, AD/CVD Operations, Office 7, Import Administration, International Trade Administration, U.S. Department of Commerce, 14th Street and Constitution Avenue, NW, Room 7866, Washington, DC 20230; telephone: (202) 482-3362 or (202) 482-0193, respectively.

SUPPLEMENTARY INFORMATION:

Background

On March 29, 1995, the Department published in the Federal Register an antidumping duty order on glycine from the PRC. See Antidumping Duty Order: Glycine from the People's Republic of China, 60 FR 16116 (March 29, 1995). On March 3, 2008, the Department published a notice of “Opportunity to Request an Administrative Review” of the antidumping duty order for the March 1, 2007, through February 29, 2008 POR. See Antidumping or Countervailing Duty Order, Finding, or Suspended Investigation; Opportunity To Request Administrative Review, 73 FR 11389 (March 3, 2008). On March 28, 2008, petitioner requested that the Department conduct an administrative review of sales of merchandise by the following 24 companies: A.H.A. International Company, Ltd.; Amol Biotech Limited; Antai Bio-Tech Co. Limited; Baoding Mantong Fine Chemistry Co., Ltd.; Beijing Jian Li Pharmaceutical Company; Degussa Rexim (Nanning); Du-Hope International Group; Hua Yip Company Inc.; Hubei Guangji Pharmaceutical Co.; Huzhou New Century International Trade Co.; Jizhou City Huayang Chemical Company, Ltd.; Jiangxi Ansun Chemical Technology; Nantong Dongchang Chemical Industry Corp.; Nantong Weifu Foreign Trade Co., Ltd.; Pudong Trans USA, Inc.; Qingdao Samin Chemical Company, Ltd.; Santec Chemicals Corporation; Schenker China Ltd.; Shanghai Freemen Lifescience Co., Ltd.; Sinosweet Co., Ltd.; Suzhou Everich Imp. & Exp. Co., Ltd.; Taigene Global Enterprises Ltd.; Tianjin Tiancheng Pharmaceutical Co.; and Wenda Co., Ltd. In response to this request, the Department published the initiation of the antidumping duty administrative review on glycine from the PRC on April 25, 2008. See Initiation of Antidumping and Countervailing Duty Administrative Reviews and Request for Revocation in Part, 73 FR 22337 (April 25, 2008).

On July 21, 2008, petitioner timely withdrew its request for review for all companies except Baoding Mantong Fine Chemistry Co., Ltd. (“Baoding”) and Nantong Dongchang Chemical Industry Corp. (“Nantong”).

Partial Rescission of the Administrative Review

Pursuant to 19 CFR § 351.213(d)(1), the Secretary will rescind an administrative review under this section, in whole or in part, if a party that requested a review withdraws the request within 90 days of the date of publication of notice of initiation of the requested review. The Secretary may extend this time limit if the Secretary decides that it is reasonable to do so. See 19 CFR § 351.213(d)(1). Petitioner withdrew its requests for review for all companies except Baoding and Nantong within the 90-day time limit. No other company had requested a review of these companies. Therefore, in response to the withdrawal of requests for administrative reviews by petitioner, the Department hereby rescinds the administrative review of the antidumping duty order on glycine from the PRC for the period March 1, 2007, through February 29, 2008, for A.H.A. International Company, Ltd.; Amol Biotech Limited; Antai Bio-Tech Co. Limited; Beijing Jian Li Pharmaceutical Coompany; Degussa Rexim (Nanning); Du-Hope International Group; Hua Yip Company Inc.; Hubei Guangji Pharmaceutical Co.; Huzhou New Century International Trade Co.; Jizhou City Huayang Chemical Company, Ltd.; Jiangxi Ansun Chemical Technology; Nantong Weifu Foreign Trade Co., Ltd.; Pudong Trans USA, Inc.; Qingdao Samin Chemical Company, Ltd.; Santec Chemicals Corporation; Schenker China Ltd.; Shanghai Freemen Lifescience Co., Ltd.; Sinosweet Co., Ltd.; Suzhou Everich Imp. & Exp. Co., Ltd.; Taigene Global Enterprises Ltd.; Tianjin Tiancheng Pharmaceutical Co.; and Wenda Co., Ltd. Because those companies for which we are rescinding this review do not have separate rates at this time (and thus remain part of the PRC-wide entity), the Department will issue assessment instructions upon the completion of this administrative review.

This notice serves as a reminder to parties subject to administrative protective order (“APO”) of their responsibility concerning the disposition of proprietary information disclosed under APO in accordance with 19 CFR § 351.305(a)(3). Timely written notification of the return or destruction of APO materials or conversion to judicial protective order is hereby requested. Failure to comply with the regulations and terms of an APO is a sanctionable violation.

This notice is published in accordance with section 777(i)(1) of the Tariff Act of 1930, as amended, and 19 CFR § 351.213(d)(4).

Dated: August 25, 2008.
Stephen J. Claeys,
Deputy Assistant Secretary for Import Administration.

[FR Doc. E8-20166 Filed 8-28-08; 8:45 am]

BILLING CODE 3510-DS-S